DEPARTMENT OF ENERGY

Federal Energy Regulatory Commission

Combined Notice of Filings #1

Take notice that the Commission received the following Complaints and Compliance filings in EL Dockets:

Docket Numbers: EL23-29-000.

Applicants: Invenergy Energy Management LLC v. PJM Interconnection, L.L.C.

Description: Complaint of Invenergy Energy Management LLC v. PJM Interconnection, L.L.C.

Filed Date: 2/1/23.

Accession Number: 0230201-5246.

Comment Date: 5 p.m. ET 2/21/23.

Take notice that the Commission received the following electric rate filings:

Docket Numbers: ER10-1529-006; ER10-2472-009; ER10-2473-009; ER10-2502-010; ER11-2724-010; ER11-4436-008; ER18-2518-005; ER19-645-004.

Applicants: Black Hills Colorado Wind, LLC, Black Hills Electric Generation, LLC, Black Hills Power, Inc., Black Hills Colorado IPP, LLC, Black Hills Colorado Electric, LLC, Cheyenne Light, Fuel and Power Company, Black Hills Wyoming, LLC, Northern Iowa Windpower, LLC.

Description: Notice of Non-Material Change in Status of Northern Iowa Windpower, LLC, et al.

Filed Date: 1/31/23.

Accession Number: 20230131-5512.

Comment Date: 5 p.m. ET 2/21/23.

Docket Numbers: ER10-1838-010; ER19-2231-007; ER19-2232-007; ER10-1967-011; ER10-1968-010; ER10-1616-018; ER23-367-001; ER23-368-001; ER23-369-001; ER22-46-006; ER22-1402-003; ER22-1404-003; ER19-1738-005; ER10-1990-010; ER18-1821-010; ER10-1993-010.

Applicants: Waymart Wind Farm, LLC, Walleye Power, LLC, Somerset Windpower, LLC, Parkway Generation Sewaren Urban Renewal Entity LLC, Parkway Generation Operating LLC, Parkway Generation Keys Energy Center LLC, Parkway Generation Essex, LLC, OnPoint Energy Pennsylvania, LLC, OnPoint Energy Ohio LLC, OnPoint Energy Illinois, LLC, New Covert Generating Company, LLC, Mill Run Windpower, LLC, Meyersdale Windpower LLC, Chief Keystone Power II, LLC, Chief Conemaugh Power II, LLC.

Description: Notice of Change in Status of Backbone Mountain Windpower LLC, et al.

Filed Date: 1/31/23.

Accession Number: 20230131-5506.

Comment Date: 5 p.m. ET 2/21/23.

Docket Numbers: ER10-2042-043; ER10-1858-011; ER10-1862-037; ER10-1863-012; ER10-1865-017; ER10-1870-011; ER10-1871-012; ER10-1873-017; ER10-1875-017; ER10-1876-018; ER10-1877-011; ER10-1878-017; ER10-1883-017; ER10-1884-017; ER10-1885-017; ER10-1888-017; ER10-1889-011; ER10-1893-037; ER10-1895-011; ER10-1934-037; ER10-1938-038; ER10-1941-017; ER10-1942-035; ER10-1944-011; ER10-1947-018; ER10-2029-015; ER10-2036-014; ER10-2040-013; ER10-2041-013; ER10-2043-013; ER10-2044-013; ER10-2051-013; ER10-2985-041; ER10-3049-042; ER10-3051-042; ER10-3260-013; ER11-4369-022; ER12-1987-015; ER12-2261-016; ER12-2645-010; ER13-1401-011; ER13-1407-013; ER14-2931-011; ER16-2218-023; ER17-696-023; ER18-1321-006; ER19-1127-007; ER20-1699-005; ER20-1939-004.

Applicants: Calpine Northeast Development, LLC, Johanna Energy Center, LLC, Calpine King City Cogen, LLC, Calpine Mid-Merit II, LLC, Calpine Energy Solutions, LLC, North American Power Business, LLC, Calpine Fore River Energy Center, LLC, CCFC Sutter Energy, LLC, Westbrook Energy Center, LLC, Pastoria Energy Facility L.L.C., Russell City Energy Company, LLC, O.L.S. Energy-Agnews, Inc., North American Power and Gas, LLC, Granite Ridge Energy, LLC, Champion Energy, LLC, Champion Energy Services, LLC, Champion Energy Marketing LLC, Calpine Bethlehem, LLC, Zion Energy LLC, Calpine Mid-Atlantic Generation, LLC, Calpine Mid Merit, LLC, Calpine New Jersey Generation, LLC, Calpine Vineland Solar, LLC, Calpine Mid-Atlantic Marketing, LLC, Otay Mesa Energy Center, LLC, Bethpage Energy Center 3, LLC, Calpine Construction Finance Company, L.P., Calpine Gilroy Cogen, L.P., Calpine Power America—CA, LLC, CES Marketing IX, LLC, KIAC Partners, CES Marketing X, LLC, CPN Bethpage 3rd Turbine, Inc., Creed Energy Center, LLC, Delta Energy Center, LLC, Geysers Power Company, LLC, Gilroy Energy Center, LLC, Goose Haven Energy Center, LLC, Hermiston Power, LLC, Los Esteros Critical Energy Facility, LLC, Los Medanos Energy Center LLC, Metcalf Energy Center, LLC, Morgan Energy Center, LLC, Nissequogue Cogen Partners, South Point Energy Center, LLC, Pine Bluff Energy, LLC, Power Contract Financing, L.L.C., TBG Cogen Partners, Calpine Energy Services, L.P.

Description: Notice of Change in Status of Calpine Energy Services, L.P., et al. under ER10-2042, et al.

Filed Date: 1/31/23.

Accession Number: 20230131-5508.

Comment Date: 5 p.m. ET 2/21/23.

Docket Numbers: ER11-3859-023; ER14-1154-002; ER14-1699-013; ER18-1990-004; ER18-2399-004; ER19-1194-003.

Applicants: Canal 3 Generating LLC, Canal Generating LLC, Stonepeak Kestrel Energy Marketing LLC, Milford Power, LLC, Bucksport Power LLC, Dighton Power, LLC.

Description: Notice of Change in Status of Dighton Power, LLC, et al.

Filed Date: 1/31/23.

Accession Number: 20230131-5511.

Comment Date: 5 p.m. ET 2/21/23.

Docket Numbers: ER11-4636-005.

Applicants: Portland General Electric Company.

Description: Compliance filing: Avista Corporation submits tariff filing per 35: First Amendment Amended and Restated Colstrip Project to be effective 2/2/2023.

Filed Date: 2/3/23.

Accession Number: 20230203-5001.

Comment Date: 5 p.m. ET 2/24/23.

Docket Numbers: ER13-2386-008; ER10-2847-007; ER14-963-007.

Applicants: TransAlta Wyoming Wind LLC, TransAlta Centralia Generation LLC, Lakeswind Power Partners, LLC.

Description: Notice of Change in Status of Lakeswind Power Partners, LLC, et al.

Filed Date: 1/31/23.

Accession Number: 20230131-5507.

Comment Date: 5 p.m. ET 2/21/23.

Docket Numbers: ER15-1332-011; ER17-1314-005; ER10-2398-013; ER10-2399-013; ER10-2400-017; ER10-2401-011; ER10-2402-010; ER11-3414-011; ER19-1280-006; ER10-2403-011; ER17-2541-003; ER10-2423-012; ER10-2404-012; ER14-1933-013; ER20-2714-004; ER10-2405-014; ER10-2406-014; ER17-2087-009; ER21-714-006; ER16-1152-006; ER19-1281-007; ER14-1594-007; ER14-1596-007; ER10-2407-010; ER10-2408-008; ER10-2409-013; ER10-2410-013; ER10-2411-014; ER10-2412-014; ER17-1315-011; ER18-1189-008; ER10-2414-019; ER11-2935-015; ER16-1724-011; ER19-1282-006; ER10-2425-012; ER18-1188-006; ER17-1316-008; ER10-2424-010; ER17-1318-007; ER14-1934-008; ER14-1935-008; ER15-1020-006; ER20-2746-005; ER19-2626-005; ER20-245-004; ER20-242-004; ER18-1186-007; ER15-1333-010; ER20-246-004.

Applicants: Windhub Solar A, LLC, Waverly Wind Farm LLC, Turtle Creek Wind Farm LLC, Sunshine Valley Solar, LLC, Sun Streams, LLC, Rosewater Wind Farm LLC, Riverstart Solar Park LLC, Rising Tree Wind Farm III LLC, Rising Tree Wind Farm II LLC, Rising Tree Wind Farm LLC, Redbed Plains Wind Farm LLC, Rail Splitter Wind Farm, LLC, Quilt Block Wind Farm LLC, Prairie Queen Wind Farm LLC, Pioneer Prairie Wind Farm I, LLC, Paulding Wind Farm IV LLC, Paulding Wind Farm III LLC, Paulding Wind Farm II LLC, Old Trail Wind Farm, LLC, Meadow Lake Wind Farm VI LLC, Meadow Lake Wind Farm V LLC, Meadow Lake Wind Farm IV LLC, Meadow Lake Wind Farm III LLC, Meadow Lake Wind Farm II LLC, Meadow Lake Wind Farm LLC, Marble River, LLC, Lost Lakes Wind Farm LLC, Lone Valley Solar Park II LLC, Lone Valley Solar Park I LLC, Lexington Chenoa Wind Farm LLC, Jericho Rise Wind Farm LLC, Indiana Crossroads Wind Farm LLC, Hog Creek Wind Project, LLC, High Trail Wind Farm, LLC, High Prairie Wind Farm II, LLC, Headwaters Wind Farm II LLC, Headwaters Wind Farm LLC, Flat Rock Windpower II LLC, Flat Rock Windpower LLC, Estill Solar I, LLC, Cloud County Wind Farm, LLC, Broadlands Wind Farm LLC, Blue Canyon Windpower VI LLC, Blue Canyon Windpower V LLC, Blue Canyon Windpower II LLC, Blue Canyon Windpower LLC, Blackstone Wind Farm II LLC, Blackstone Wind Farm, LLC, Arkwright Summit Wind Farm LLC, Arbuckle Mountain Wind Farm LLC.

Description: Notice of Non-Material Change in Status of Arbuckle Mountain Wind Farm LLC, et al.

Filed Date: 1/31/23.

Accession Number: 20230131-5505.

Comment Date: 5 p.m. ET 2/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2023.
Debbie-Anne A. Reese,
Deputy Secretary.

[FR Doc. 2023-02763 Filed 2-8-23; 8:45 am]

BILLING CODE 6717-01-P